DEPARTMENT OF DEFENSE

Office of the Secretary

[Docket No. DoD-2007-OS-0090]

Submission for OMB Review; Comment Request

ACTION: Notice.

The Department of Defense has submitted to OMB for clearance, the following proposal for collection of information under the provisions of the Paperwork Reduction Act (44 U.S.C. Chapter 35).

Dates: Consideration will be given to all comments received by March 3, 2008.

Title, Form, And OMB Number: Request for Verification of Birth; DD Form 372; OMB Control Number 0704-0006.

Type Of Request: Extension.

Number Of Respondents: 100,000.

Responses Per Respondent: 1.

Annual Responses: 100,000.

Average Burden Per Response: 5 minutes.

Annual Burden Hours: 8,300.

Needs And Uses: Title 10, U.S.C. 505, 532, 3253, and 8253 require applicants meet minimum and maximum age and citizenship requirements for enlistment into the Armed Forces. If an applicant is unable to provide a birth certificate, the recruiter will forward a DD Form 372, “Request for Verification of Birth,” to a state or local agency requesting verification of the applicant's birth date. This verification of birth ensures that the applicant does not fall outside the age limitations, and that the applicant's place of birth supports the citizenship status claimed by the applicant.

Affected Public: State, local or tribal government.

Frequency: On Occasion.

Respondent's Obligation: Required to obtain or retain a benefit.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: January 25, 2008.
Patricia L. Toppings,
Alternate OSD Federal Register Liaison Officer, Department of Defense.

[FR Doc. E8-1857 Filed 1-31-08; 8:45 am]

BILLING CODE 5001-06-P